FEDERAL COMMUNICATIONS COMMISSION

47 CFR Part 73

[DA 01-1151; MM Docket No. 01-4; RM-10020]

Radio Broadcasting Services; Willow Creek, California

AGENCY: Federal Communications Commission.

ACTION: Final rule.

SUMMARY: This document allots FM Channel 253A to Willow Creek, California, as its first local aural transmission service. See 66 FR 7607, (January 24, 2001). Coordinates used for Channel 253A at Willow Creek, are 40-56-50 NL and 123-37-10 WL. With this action, this docketed proceeding is terminated.

DATES: Effective June 18, 2001.

FOR FURTHER INFORMATION CONTACT: R. Barthen Gorman, Mass Media Bureau, (202) 418-2180.

SUPPLEMENTARY INFORMATION: This is a synopsis of the Commission's Report and Order, MM Docket No. 01-4, adopted April 25, 2001, and released May 4, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under California, is amended by adding Willow Creek, Channel 253A.

Federal Communications Commission.
John A. Karousos,
Chief, Allocations Branch, Policy and Rules Division, Mass Media Bureau.

[FR Doc. 01-12271 Filed 5-15-01; 8:45 am]

BILLING CODE 6712-01-P